FEDERAL COMMUNICATIONS COMMISSION

[CC Docket 98-67; DA 03-1862]

Notice to State Telecommunications Relay Service (TRS) Programs and Interstate TRS Providers to Notify the Commission of Any Change of Contact Person Information and Substantive Changes in TRS service

AGENCY: Federal Communications Commission.

ACTION: Notice.

SUMMARY: The purpose of this document is to notify state Telecommunications Relay Service (TRS) programs and interstate TRS Providers that they are required to submit to the Commission a contact person or office for TRS consumer information and complaints and to notify the Commission of any changes in this information. This document also reminds state programs to notify the Commission of substantive changes in their TRS program.

DATES: Effective May 30, 2003.

FOR FURTHER INFORMATION CONTACT: Erica Myers, Consumer & Governmental Affairs Bureau, Disability Rights Office, (202) 418-2429 (voice), (202) 418-0464 (TTY), or e-mail emyers@fcc.gov.

SUPPLEMENTARY INFORMATION: This is a summary of the Commission's Public Notice, DA 03-1862, released May 30, 2003. State TRS programs and interstate TRS providers may file this information by using the Commission's Electronic Comment Filing System (ECFS) or by filing paper copies. See Electronic Filing of Documents in Rulemaking Proceedings, 63 FR 24121 (1998). Comments filed through the ECFS can be sent as an electronic file via the Internet to http://www.fcc.gov/e-file/ecfs.html. Generally, only one copy of an electronic submission must be filed. When filing changes, please reference CC Docket No. 98-67. In completing the transmittal screen, parties should include their full name, Postal Service mailing address, and the applicable docket or rulemaking number. Parties may also submit an electronic document by Internet e-mail. To get filing instructions for e-mail documents, parties should send an e-mail to ecfs@fcc.gov, and should include the following words in the body of the message, “get form <your e-mail address>.” A sample form and directions will be sent in reply.

State TRS programs and interstate TRS providers who choose to submit by paper must submit an original and four copies of each filing addressed to the Commission's Secretary, Marlene H. Dortch, Office of the Secretary, Federal Communications Commission, 445 12th Street, SW., Room TW-B204, Washington, DC 20554. State TRS programs and interstate TRS providers are encouraged to submit an additional copy to Attn: Erica Myers, Federal Communications Commission, Consumer & Governmental Affairs Bureau, 445 12th Street, SW., Room 6-A432, Washington, DC 20554 or by e-mail at emyers@fcc.gov. States and interstate TRS providers should also submit electronic disk copies of their filing on a standard 3.5 inch diskette formatted in an IBM compatible format using Word 97 or compatible software. The diskette should be submitted in “read-only” mode and must be clearly labeled with the State or interstate TRS provider name, the filing date and captioned “Change in Contact Information” or “Substantive Change in TRS Service'.

Filings can be sent by hand or messenger delivery, by commercial overnight courier, or by first-class or overnight U.S. Postal Service mail (although we continue to experience delays in receiving U.S. Postal Service mail). The Commission's contractor, Vistronix, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554.

The filings will be available for public inspection and copying during regular business hours at the FCC Reference Information Center, Portals II, 445 12th Street, SW., Room CY-A257, Washington, DC 20554. They may also be purchased from the Commission's duplicating contractor, Qualex International, Portals II, 44512th Street, SW., Room CY-B402, Washington, DC 20554, telephone (202) 863-2893, facsimile (202) 863-2898, or via e-mail qualexint@aol.com. Filings may also be viewed on the Consumer & Governmental Affairs Bureau, Disability Rights Office homepage at http://www.fcc.gov/cgb/dro.

To request materials in accessible formats for people with disabilities (braille, large print, electronic files, auto format), send an e-mail to fcc504@fcc.gov or call the Consumer & Governmental Affairs Bureau at 202-418-0531 (voice), 202-418-7365 (tty). This Public Notice can also be downloaded in Text and ASCII formats at http://www.fcc.gov/cgb/dro.

Synopsis

The purpose of this Public Notice is to remind state Telecommunications Relay Service (TRS) programs that pursuant to 47 CFR 64.604(c)(2)(i) they must submit to the Commission a contact person or office for TRS consumer information and complaints about intrastate service. The submission shall include the name and address of the state office that receives complaints, grievances, inquiries and suggestions; the voice, TTY, and fax numbers for that office; the e-mail address; and the physical address to which correspondence should be sent. Similarly, interstate TRS providers are reminded that pursuant to 47 CFR 64.604(c)(2)(ii) they must submit to the Commission a contact person or office for TRS consumer information and complaints about the provider's service. The submission shall include the name and address of the office that receives complaints, grievances, inquiries and suggestions; the voice, TTY and fax numbers for that office; the e-mail address; and the physical address to which correspondence should be sent. The Commission must be notified each time there is a change in any of this required information.

The Commission also reminds state TRS programs that pursuant to 47 CFR 64.605 (f) state TRS programs must notify the Commission of any substantive changes in their TRS programs within 60 days of when they occur, and must certify that the state TRS program continues to meet Federal minimum standards after implementing the substantive change.

Federal Communications Commission.
Margaret M. Egler,
Deputy Chief, Consumer & Governmental Affairs Bureau.

[FR Doc. 03-14930 Filed 6-12-03; 8:45 am]

BILLING CODE 6712-01-P